DEPARTMENT OF THE INTERIOR

Fish and Wildlife Service

Marine Mammal Species Permit Applications; Notice of Extension of Comment Period

The Fish and Wildlife Service gives notice that the comment period is extended on the notice of receipt of applications for two applications submitted by International Animal Consulting Group, Inc. The applications were submitted to satisfy requirements of the Marine Mammal Protection Act of 1972, as amended (16 U.S.C. 1361 et seq.) and the regulations governing marine mammals (50 CFR 18). The applications, 018196 and 018197, are for conducting certain activities with marine mammals, specifically taking northern sea otters (Enhydra lutris lutris) from the wild in Alaska for export and public display at two Japanese aquariums. The extension will allow all interested parties to submit written comments. The Fish and Wildlife Service published a notice of receipt of the applications on Friday, December 17, 1999. The current comment period closes on January 26, 2000. Written comments may now be submitted until January 31, 2000, and should be submitted to the Director, U.S. Fish and Wildlife Service, Office of Management Authority, 4401 North Fairfax Drive, Room 700, Arlington, Virginia 22203.

Dated: January 21, 2000.
Kristen Nelson,
Chief, Branch of Permits (Domestic), Office of Management Authority.

[FR Doc. 00-1769 Filed 1-24-00; 8:45 am]

BILLING CODE 4310-55-P